FEDERAL COMMUNICATIONS COMMISSION

47 CFR Part 73

[MB Docket No. 22-376; RM-11934; DA 22-1132; FR ID 112240]

Television Broadcasting Services Norwell, Massachusetts

AGENCY: Federal Communications Commission.

ACTION: Proposed rule.

SUMMARY: The Commission has before it a petition for rulemaking filed by RNN Boston License Co., LLC (Petitioner), the licensee of WWDP, channel 10, Norwell, Massachusetts. The Petitioner requests the substitution of channel 36 for channel 10 at Norwell in the Table of Allotments.

DATES: Comments must be filed on or before December 15, 2022 and reply comments on or before December 30, 2022.

ADDRESSES: Federal Communications Commission, Office of the Secretary, 45 L Street NE, Washington, DC 20554. In addition to filing comments with the FCC, interested parties should serve counsel for the Petitioner as follows: Christine A. Burrow, Esq. Cooley, LLP, 1299 Pennsylvania Avenue, Washington, DC 20004-2400.

FOR FURTHER INFORMATION CONTACT: Joyce Bernstein, Media Bureau, at (202) 418-1647; or Joyce Bernstein, Media Bureau, at Joyce.Bernstein@fcc.gov.

SUPPLEMENTARY INFORMATION: In support of its channel substitution request, the Petitioner states that the Commission has recognized that VHF channels have certain characteristics that pose challenges for their use in providing digital television service According to the Petitioner, it has received many complaints from viewers unable to receive a reliable signal on channel 10 and that its channel sharing partner, WMFP(TV), Foxborough, Massachusetts, which is also owned by RNN, has similarly received complaints and would benefit from the proposed channel change. While an analysis using the Commission's TVStudy software indicates that WWDP's proposed channel substitution is predicted to create areas where viewers may lose service, all viewers in the loss area will continue to be served by at least five other full power television stations and no viewers will lose service from one of the four major television networks.

This is a synopsis of the Commission's Notice of Proposed Rulemaking, MB Docket No. 22-376; RM-11934; DA 22-1132, adopted October 27, 2022, and released October 27, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—Radio Broadcast Service

1. The authority citation for part 73 continues to read as follows:

Authority: 47 U.S.C. 154, 155, 301, 303, 307, 309, 310, 334, 336, 339.

§ 73.622 Table of allotments.

2. In § 73.622 in paragraph (j), amend the Table of Allotments under Massachusetts by revising the entry for Norwell to read as follows:

* * * * *

(j) Table of TV Allotments.

Community | Channel No.
* * * * *
MASSACHUSETTS
* * * * *
Norwell | 36
* * * * *

* * * * *

[FR Doc. 2022-24753 Filed 11-14-22; 8:45 am]

BILLING CODE 6712-01-P